ENVIRONMENTAL PROTECTION AGENCY

[EPA-HQ-OPPT-2014-0838; FRL-9923-58]

Agency Information Collection Activities; Proposed Collection and Comment Request; Assessment of Environmental Performance Standards and Ecolabels for Federal Procurement

AGENCY: Environmental Protection Agency (EPA).

ACTION: Notice.

SUMMARY: In compliance with the Paperwork Reduction Act (PRA), this document announces that EPA is planning to submit an Information Collection Request (ICR) to the Office of Management and Budget (OMB). The ICR, entitled: Assessment of Environmental Performance Standards and Ecolabels for Federal Procurement, and identified by EPA ICR No. 2516.01 and OMB Control No. 2070-new, represents a new request. Before submitting the ICR to OMB for review and approval under the PRA, EPA is soliciting comments on specific aspects of the proposed information collection that is summarized in this document. The ICR and accompanying material are available in the docket for public review and comment. EPA is also announcing the testing of draft guidelines and a pilot project on an assessment approach for recognizing product environmental performance standards and ecolabels for Federal procurement in the following three categories: Furniture, building flooring, and building paints/coatings/removers. An additional purchase category may be piloted, depending on available resources and other considerations. EPA is seeking comment on the criteria/qualifications that will be used for the selection of the multi-stakeholder panel members, who will refine the draft guidelines for specific sectors. In addition, EPA is seeking volunteer standards development organizations and ecolabel programs to be assessed per the draft guidelines.

DATES: Comments on multi-stakeholder panel member criteria/qualifications must be received on or before April 20, 2015. Expressions of interest to participate in the pilot and comments on the ICR must be received on or before May 18, 2015.

ADDRESSES: Submit your expressions of interest to participate in the pilot and comments on the ICR and multi-stakeholder panel member criteria/qualifications, identified by docket identification (ID) number EPA-HQ-OPPT-2014-0838, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Julie Shannon, Chemistry, Economics, and Sustainable Strategies Division (7409M), Office of Pollution Prevention and Toxics, Environmental Protection Agency, 1200 Pennsylvania Ave. NW., Washington, DC 20460-0001; telephone number: (202) 564-8834; email address: shannon.julie@epa.gov.

For general information contact: The TSCA-Hotline, ABVI-Goodwill, 422 South Clinton Ave., Rochester, NY 14620; telephone number: (202) 554-1404; email address: TSCA-Hotline@epa.gov.

SUPPLEMENTARY INFORMATION:

I. Testing of Updated Draft Guidelines

In the Federal Register of November 27, 2013 (78 FR 70938) (FRL-9394-6), EPA issued for public comment draft guidelines for product environmental performance standards and ecolabels for voluntary use in Federal procurement. EPA's goal in developing these draft guidelines is to create a “transparent, fair, and consistent approach to selecting product environmental performance standards and ecolabels to support the Agency's mission and federal sustainable acquisition mandates.” The fundamental aim of the draft guidelines is to establish a cross-sector framework to be used in recognizing non-governmental environmental standards (and consequently, environmentally preferable products meeting these standards) for use in Federal procurement.

The draft guidelines include four sections:

1. Guidelines for the process for developing standards refers to the procedures used to develop, maintain, and update an environmental standard.

2. Guidelines for the environmental effectiveness of the standards refers to the criteria in the environmental standard or ecolabel that support the claim of environmental preferability.

3. Guidelines for conformity assessment refers to the procedures and practices by which products are assessed for conformity to the requirements specified by standards and ecolabeling programs.

4. Guidelines for Management of Ecolabeling Programs refers to the organizational and management practices of an ecolabeling program.

EPA has responded to public comments and released a new version of the “Guidelines for the Environmental Effectiveness of the Standards” at http://www.epa.gov/draftGuidelines/responses.html. The majority of public comments supported EPA undertaking—with key external entity and stakeholder participation—additional work to further refine the draft guidelines and test a potential approach to assessing standards and ecolabels. Therefore, in this next phase of work, EPA is contracting with an entity to convene a coordinating Governance Committee, product category-specific multi-stakeholder panels, and independent assessment entity(ies) to develop and pilot test an approach in three product categories: Furniture, building flooring, and building paints/coatings/removers. These sectors were chosen because they meet some or all of the following criteria:

• Potentially significant environmental and/or human health impact (based on lifecycle assessments and hazard and risk assessments).

• Opportunity for environmental and/or human health improvement through private sector standards/ecolabels.

• Significant volume of Federal purchases.

• Current Federal sustainable acquisition mandates in the category are limited, out-of-date, and/or could be augmented with private sector standards.

An additional to-be-determined purchase category may be piloted, depending upon available resources and other considerations. In addition, due to significant interest, EPA will explore the potential for the draft guidelines to apply to service sector standards and ecolabels (e.g., services related to building maintenance, cafeterias, and professional consultants, among others). The potential pilot for this sector would not assess service sector standards; rather the analysis and recommendations could potentially position the draft guidelines to accommodate such assessments in 2016 and beyond.

II. Opportunity To Participate in a Pilot

Standards development organizations, ecolabel programs, and certification entities that have product environmental performance standards and/or ecolabels that cover one or more of the three product categories, and could be considered for use in Federal procurement per E.O. 13514, entitled: Federal Leadership in Environmental, Energy, and Economic Performance (74 FR 52117, October 8, 2009), the Federal Acquisition Regulation (FAR) (48 CFR 23.103), and Federal government standards policy, should consider submitting those standards and ecolabels for assessment as a part of the pilot project.

Those standards and ecolabels assessed will provide information per product-category specific checklists (based on the draft guidelines), to be developed by multi-stakeholder panels, as described at http://www.epa.gov/epp/draftGuidelines/pilot.html. Each purchase category panel shall include a balanced group of relevant stakeholders in the environmental and human health performance standards and ecolabels space and ensure an objective, open, and consensus-driven process and credible results. The stakeholder types that may be represented on the multi-stakeholder panels include, but are not limited to:

• Standards development organizations.

• Ecolabel program managers/system owners.

• Conformity assessment bodies.

• Federal purchasers.

• Other large institutional purchasers such as state governments or universities.

• Manufacturers and/or vendors in the product categories targeted for assessment.

• Professional societies, users groups, and industry consortia.

• Research and development organizations and academia.

• Non-governmental organizations widely respected for their work on public health, environmental protection, and sustainability issues.

• Federal government agencies knowledgeable in conformity assessment.

EPA is seeking input from the public regarding the multi-stakeholder panel member criteria/qualifications. EPA proposed the following:

• Knowledge of the environmental and/or human health impacts of the particular product category.

• Experience working with diverse stakeholders towards consensus.

• Familiarity with the draft Guidelines and Federal sustainable acquisition mandates.

• Familiarity with standards development and conformity assessment approaches.

• Ability to devote the necessary time to the panel (including one meeting and regular conference calls).

• Willingness to sign a conflict of interest disclosure form.

III. Information Collection Request (ICR)

A. What comments are sought on the ICR?

Pursuant to the PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses.

In particular, EPA is requesting comments from very small businesses and non-profit organizations (those that employ less than 25) on examples of specific additional efforts that EPA could make to reduce the paperwork burden for very small businesses and non-profit organizations affected by this collection.

B. What information collection activity or ICR does this apply to?

Title: Assessment of Environmental Performance Standards and Ecolabels for Federal Procurement.

ICR number: EPA ICR No. 2516.01.

OMB control number: OMB Control No. 2070—New.

ICR status: This ICR is for a new information collection activity. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: EPA is engaging in this collection pursuant to the authority in the Pollution Prevention Act (42 U.S.C. 13103(b)(11)), which requires EPA to “Identify opportunities to use Federal procurement to encourage source reduction” and section 12(d) of the National Technology Transfer and Advancement Act (NTTAA) (15 U.S.C. 272 note), which requires Federal agencies to “use technical standards that are developed or adopted by voluntary consensus standards bodies, using such technical standards as a means to carry out policy objectives or activities.” Federal agencies need this assessment per the draft guidelines to determine which, among sometimes dozens of private sector standards within a single purchase category, are appropriate and effective in meeting Federal procurement goals and mandates.

Federal agencies must comply with the following sustainability-related purchasing mandates: Section 2(h) of E.O. 13514; section 6002 of the Resource Conservation and Recovery Act (42 U.S.C. 6002); section 9002 of the Farm Security and Rural Investment Act (7 U.S.C. 8102); the Energy Policy Act (42 U.S.C. 13201 et seq.); section 2(d) of E.O. 13423, entitled: Strengthening Federal Environmental, Energy, and Transportation Management (72 FR 3919, January 26, 2007); and the FAR, including 48 CFR part 23, entitled: Environment, Energy and Water Efficiency, Renewable Energy Technologies, Occupational Safety, and Drug-Free Workplace (see http://www.whitehouse.gov/omb/procurement_index_green).

Via NTTAA, Federal agencies are required to “use technical standards that are developed or adopted by voluntary consensus standards bodies, using such technical standards as a means to carry out policy objectives or activities,” except when an agency determines that such use “is inconsistent with applicable law or otherwise impractical.” OMB Circular A-119, entitled: Federal Participation in the Development and Use of Voluntary Consensus Standards and in Conformity Assessment Activities, reaffirms Federal agency use of non-governmental standards in procurement.

While Federal purchasing policy is clear for the several standards and ecolabels that are listed in statute, regulation, or Executive Order, the lack of independently assessed information about and Federal guidance on using other product environmental performance standards and ecolabels often results in an inconsistent approach by Federal purchasers and confusion and uncertainty for vendors and manufacturers.

Burden statement: The annual public reporting and recordkeeping burden for this collection of information is estimated to average 8.5 hours per response. Burden is defined in 5 CFR 1320.3(b).

The ICR, which is available in the docket along with other related materials, provides a detailed explanation of the collection activities and the burden estimate that is only briefly summarized here:

Respondents/Affected Entities: Entities potentially affected by this ICR are standards development organizations, ecolabeling programs, and environmental certification entities.

Estimated total number of potential respondents: 20.

Frequency of response: Once during 2015 pilot; and, a to-be-determined frequency depending upon learnings from the pilot.

Estimated total average number of responses for each respondent: 2.

Estimated total annual burden hours: 340 hours.

Estimated total annual costs: $24,711.20 for burden hours, and $0 estimated costs for capital investment or maintenance and operational costs.

C. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the technical person listed under FOR FURTHER INFORMATION CONTACT.

Authority: 44 U.S.C. 3501 et seq.

Dated: March 11, 2015.
James Jones,
Assistant Administrator, Office of Chemical Safety and Pollution Prevention.

[FR Doc. 2015-06275 Filed 3-18-15; 8:45 am]

BILLING CODE 6560-50-P